DEPARTMENT OF COMMERCE

Foreign-Trade Zones Board

[B-52-2012]

Foreign-Trade Zone 26—Atlanta, GA, Application for Reorganization (Expansion of Service Area), Under the Alternative Site Framework, Amendment of Application

A request has been submitted to the Foreign-Trade Zones Board (the Board) by the Georgia Foreign-Trade Zone Inc., grantee of FTZ 26, to amend the application to expand its service area under the alternative site framework to include the entirety of Columbia County, Georgia.

Public comment is invited from interested parties. Submissions shall be addressed to the Board's Executive Secretary at: Foreign-Trade Zones Board, U.S. Department of Commerce, Room 21013, 1401 Constitution Ave. NW., Washington, DC 20230.

The closing period for their receipt is September 28, 2012. Rebuttal comments in response to material submitted during the foregoing period may be submitted during the subsequent 15-day period (to October 15, 2012).

For further information, contact Kathleen Boyce at Kathleen.Boyce@trade.gov or (202) 482-1346.

Dated: August 22, 2012.
Andrew McGilvray,
Executive Secretary.

[FR Doc. 2012-21349 Filed 8-28-12; 8:45 am]

BILLING CODE P